DEPARTMENT OF TRANSPORTATION

Office of the Secretary

Notice of Applications for Certificates of Public Convenience and Necessity and Foreign Air Carrier Permits Filed Under Subpart B (Formerly Subpart Q) During the Week Ending April 23, 2011

The following Applications for Certificates of Public Convenience and Necessity and Foreign Air Carrier Permits were filed under Subpart B (formerly Subpart Q) of the Department of Transportation's Procedural Regulations (See 14 CFR 301.201 et seq.). The due date for Answers, Conforming Applications, or Motions To Modify Scope are set forth below for each application. Following the Answer period DOT may process the application by expedited procedures. Such procedures may consist of the adoption of a show-cause order, a tentative order, or in appropriate cases a final order without further proceedings.

Docket Number: DOT-OST-2010-0096.

Date Filed: April 21, 2011.

Due Date for Answers, Conforming Applications, or Motion To Modify Scope:May 11, 2011.

Description:Application of Skymark Airlines Inc. (“Skymark”) requesting renewal and amendment of its existing exemption authority and a foreign air carrier permit to authorize Skymark to engage in the following services: (i) Charter foreign air transportation of persons, property, and mail between any point or points in Japan and any point or points in the United States, and between any point or points in the United States and any point or points in a third country or countries, provided that such service constitutes part of a continuous operation, with or without a change of aircraft, that includes service to or from Japan for the purpose of carrying local traffic to or from Japan; and (ii) other charters pursuant to the prior approval requirements.

Renee V. Wright,
Program Manager, Docket Operations, Federal Register Liaison.

[FR Doc. 2011-11343 Filed 5-9-11; 8:45 am]

BILLING CODE 4910-9X-P